ENVIRONMENTAL PROTECTION AGENCY

[ER-FRL-6635-9]

Environmental Impact Statements; Notice of Availability

Responsible Agency: Office of Federal Activities, General Information (202) 564-7167 or http://www.epa.gov/compliance/nepa/.

Weekly receipt of Environmental Impact Statements.

Filed December 9, 2002 through December 13, 2002.

Pursuant to 40 CFR 1506.9.

EIS No. 020509, Draft EIS, AFS, MO, Pineknot. Woodland Restoration Project, Restoring Open Shortleaf Pine Woodland on the 10,831 Acre, Implementation, Doniphan/Eleven Point Ranger District, Mark Twain National Forest, Carter County, MO, Comment Period Ends: February 3, 2003, Contact: Jerry Bird (573) 996-2153.

EIS No. 020510, Draft Supplement, FHW, WV, VA, Appalachian Corridor H Project, Construction of a 10-mile Highway between the Termini of Parsons and Davis, In Pursuant to the February 2000 Settlement Agreement, Tucker County, WV and VA, Comment Period Ends: February 21, 2003, Contact: Thomas J. Smith (304) 347-5928.

EIS No. 020511, Draft EIS, COE, MD, Aberdeen Proving Ground (APG) Project, To Conduct Research and Development, Test and Evaluate Ordnance, Military Equipment and to Train Personnel, Chesapeake Bay, Harford, Baltimore, Kent and Cecil Counties, MD, Comment Period Ends: February 3, 2003, Contact: Tracy Dunne (410) 278-2479.

EIS No. 020512, Final Supplement, NRC, Generic EIS—Decommissioning of Nuclear Facilities, Updated Information on Dealing With Decommissioning of Nuclear Power Reactors (NUREG-0586), Wait Period Ends: January 21, 2003, Contact: Michael T. Masnik (301) 415-1191.

EIS No. 020513, Draft EIS, SFW, WA, Nisqually National Wildlife Refuge (NWR), To Adopt and Implement a Comprehensive Conservation Plan, Puget Sound, Nisqually River Delta, Thurston and Pierce Counties, WA, Comment Period Ends: February 21, 2003, Contact: Michael Marxen (503) 590-6596. This document is available on the Internet at: http://www.pacific.fws.gov/planning.

EIS No. 020514, Legislative Draft, AFS, WA, I-90 Wilderness Study, To Review Land Comprising of 15,000 Acres for Suitability for Preservation as Wilderness, Omnibus Consolidated and Emergency Supplemental Appropriations Act, Okanogan and Wenatchee National Forests, Kittitas and Chelan Counties, WA, Comment Period Ends: February 18, 2003, Contact: Floyd Rogalski (509) 674-4411. This document is available on the Internet at: http://www.fs.fed.us/r6/wenatchee/planning/i-90-wilderness-study.pdf.

EIS No. 020515, Draft EIS, AFS, OR, Metolius Basin Forest Management Project, To Implement Fuel Reduction and Forest Health Management Activities, Deschutes National Forest, Sisters Ranger District, Jefferson County, OR, Comment Period Ends: February 15, 2003, Contact: Kris Martinson (541) 549-7730. This document is available on the Internet at: http://www.fs.fed.us/r6/centraloregon/index-metolius.htm.

EIS No. 020516, Draft Supplement, FTA, OR, WA, OR, South Corridor Project a Portion of the South/North Corridor Project, Improvement to the Existing Urban Transportation System, Updated and Additional Information, Clackamas and Multnomah Counties, OR, Comment Period Ends: February 07, 2003, Contact: Sharon Kelly (503) 797-1756.

Amended Notices

EIS No. 020502, Draft EIS, MMS, AK, Cook Inlet Planning Area Oil and Gas Lease Sales 191 and 199, Outer Continental Shelf, Offshore Marine Environment, Cook Inlet, AK, Comment Period Ends: February 11, 2003, Contact: George Valiulis (703) 787-1662. Revision of FR Notice Published on 12/13/2002: Correction to Comment Period from 01/27/2003 to 02/11/2003.

Dated: December 17, 2002.
Joseph C. Montgomery,
Director, NEPA Compliance Division, Office of Federal Activities.

[FR Doc. 02-32127 Filed 12-19-02; 8:45 am]

BILLING CODE 6560-50-P